POSTAL REGULATORY COMMISSION

[Docket No. CP2023-155; Order No. 6511]

Competitive Price Changes

AGENCY: Postal Regulatory Commission.

ACTION: Notice.

SUMMARY: The Commission is recognizing a recently filed Postal Service document with the Commission concerning changes in rates and classifications not of general applicability for Competitive products. This notice informs the public of the filing, invites public comment, and takes other administrative steps.

DATES: Comments are due: May 31, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On May 12, 2023, the Postal Service filed notice with the Commission concerning changes in rates and classifications not of general applicability for Competitive products.¹ The Postal Service represents that, as required by 39 CFR 3035.105(b), the Notice includes an explanation and justification for the changes, the effective date, and a schedule of the changed rates. See Notice at 1. The Notice also includes a certification of the vote, and a redacted copy of Governors' Decision 19-1. The changes are intended to take effect on June 15, 2023, or sooner upon favorable review by the Commission. Id. at 1-2.

¹ USPS Notice of Changes in Rates and Classifications Not of General Applicability for Competitive Products, May 12, 2023 (Notice).

Attached to the Notice is Governors' Decision No. 19-1, which states the new prices are in accordance with 39 U.S.C. 3632 and 3633 and 39 CFR 3015.5 and 3015.7.² The Governors' Decision provides an analysis of the Competitive products' price and classification changes intended to demonstrate that the changes comply with 39 U.S.C. 3633 and 39 CFR 3015.7(c).³ Another attachment sets forth the rate and classification changes and includes draft Mail Classification Schedule (MCS) language for Competitive products not of general applicability.

² Notice, Decision of the Governors of the United States Postal Service on Changes in Rates and Classification Not of General Applicability for Competitive Products, at 2 (Governors' Decision No. 19-1). The referenced regulations have been reorganized since the issuance of Governor's Decision No. 19-1 and are now found at 39 CFR 3035.105 and .107. See Docket No. RM2019-13, Order Reorganizing Commission Regulations and Amending Rules of Practice, January 16, 2020 (Order No. 5407) (effective April 20, 2020).

³ Governors' Decision No. 19-1 at 2. Reorganized to 39 CFR 3035.107(c). See Order No. 5407.

The Notice includes an application for non-public treatment of the unredacted Governors' Decision, the non-published rates, the price floors, and the supporting financial material filed under seal. Notice at 6.

Planned rate and classification changes. The Postal Service's planned rate and classification “changes establish the Business Rate Card (BRC) as a set of non-published rates available only for USPS Click-N-Ship (CNS) business customers, for the following competitive products: Priority Mail Express, Priority Mail, First-Class Package Service, and Parcel Select Ground.” ⁴ The BRC rates “are considered `Other Non-Published Competitive Rates . . . not embodied in contractual instruments' pursuant to Governors' Decision 19-1.” Id. The Notice also includes text changes to the associated MCS language to reflect the parameters of the established BRC under each applicable product. Id.

⁴ Notice at 1. After July 9, the BRC will apply to the USPS Ground Advantage product. Id. at 1 n.1.

II. Initial Administrative Actions

The Commission establishes Docket No. CP2023-155 for consideration of matters raised by the Notice. Pursuant to 39 U.S.C. 505, Christopher C. Mohr is appointed to serve as Public Representative to represent the interests of the general public in this docket. The Commission invites comments on whether the Postal Service's filing is consistent with 39 U.S.C. 3632, 3633, and 39 CFR 3035.105 and .107. Comments are due no later than May 31, 2023. The public portions of the filing can be accessed via the Commission's website (http://www.prc.gov).

III. Ordering Paragraphs

It is ordered:

1. The Commission establishes Docket No. CP2023-155 for consideration of matters raised by the Postal Service's Notice.

2. Comments are due no later than May 31, 2023.

3. Pursuant to 39 U.S.C. 505, Christopher C. Mohr will serve as an officer of the Commission (Public Representative) to represent the interests of the general public in these dockets.

4. The Secretary shall arrange for publication of this order in the Federal Register.

By the Commission.
Erica A. Barker,
Secretary.

[FR Doc. 2023-10925 Filed 5-22-23; 8:45 am]

BILLING CODE 7710-FW-P